DEPARTMENT OF HEALTH AND HUMAN SERVICES

Centers for Disease Control and Prevention

Board of Scientific Counselors, National Center for Injury Prevention and Control, (BSC, NCIPC)

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control, (BSC, NCIPC). This is a virtual meeting and is open to the public, limited by the capacity of the conference webinar which is 2,000 participants. Pre-registration is required. Time will be available for public comment.

DATES: The meeting will be held on April 11, 2022, from 10:00 a.m. to 4:30 p.m., EDT. The public may submit written comments from March 15, 2022 through April 18, 2022.

ADDRESSES: Zoom Virtual Meeting. If you would like to attend the virtual meeting, please pre-register by accessing the link at https://dceproductions.zoom.us/webinar/register/WN_Mi3IYbnQTOmuEKZBxScBWQ. Instructions to access the Zoom virtual meeting will be provided in the link following registration.

Meeting Information: There will be a public comment period from 3:45 p.m.-4:15 p.m., EDT. The public is encouraged to register for the BSC, NCIPC April 11, 2022, meeting public comment period by accessing the link provided: https://www.surveymonkey.com/r/l3hdzb6. Individuals wishing to pre-register for public comment must do so by Wednesday, April 6, 2022, at 5:00 p.m., EDT.

FOR FURTHER INFORMATION CONTACT: Arlene Greenspan, DrPH, MPH, PT, Associate Director for Science, National Center for Injury Prevention and Control, Centers for Disease Control and Prevention, 4770 Buford Highway NE, Mailstop S106-9, Atlanta, Georgia 30341, Telephone: (770) 488-1279; Email address: ncipcbsc@cdc.gov.

SUPPLEMENTARY INFORMATION:

Purpose: The Board will: (1) Conduct, encourage, cooperate with, and assist other appropriate public health authorities, scientific institutions, and scientists in the conduct of research, investigations, experiments, demonstrations, and studies relating to the causes, diagnosis, treatment, control, and prevention of injury and violence, and other impairments; (2) assist States and their political subdivisions in preventing intentional and unintentional injuries and to promote health and well-being; and (3) conduct and assist in research and control activities related to injury. The Board of Scientific Counselors makes recommendations regarding policies, strategies, objectives, and priorities; and reviews progress toward injury prevention goals and provides evidence in injury prevention-related research and programs. In addition, the Board provides advice on the appropriate balance of intramural and extramural research, the structure, progress, and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters To Be Considered: The agenda will include an update on the Traumatic Brain Injury (TBI) Research Priorities; Older Adult Falls Research Priorities; the Diversity, Equity, Belonging, Inclusion and Accessibility (DEBIA) Strategic Plan; and Health Equity. Agenda items are subject to change as priorities dictate.

Public Participation

Written Public Comment: Written comments must be received on or before 5:00 p.m., EDT, April 18, 2022, by email at ncipcbsc@cdc.gov. All written comments will be included as part of the meeting minutes.

Oral Public Comment: This meeting will include time for members of the public to make an oral comment. Individuals wishing to pre-register for public comment must do so by Wednesday, April 6, 2022, at 5:00 p.m., EDT. Those pre-registering for public comment must also register for the meeting using the link below.

Oral Public Comment Procedure: Individuals registered to provide public comment will be called upon first to speak based on the order of registration, followed by others from the public. All public comments will be limited to two (2) minutes per speaker.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-05429 Filed 3-14-22; 8:45 am]

BILLING CODE 4163-18-P